DEPARTMENT OF THE INTERIOR

Bureau of Land Management

[LLWO300000.L91310000.PP000]

Notice of Availability of the Record of Decision and Approved Resource Management Plan Amendments for Geothermal Leasing in the Western United States

AGENCY: Bureau of Land Management, Interior.

ACTION: Notice of availability.

SUMMARY: In accordance with Section 202 of the National Environmental Policy Act of 1969 (NEPA) (42 U.S.C. 4321 et seq.), the Council on Environmental Quality's regulations implementing NEPA (40 CFR 1500-1508), and applicable agency guidance, the Department of the Interior, Bureau of Land Management (BLM) announces the availability of the Record of Decision (ROD) and Approved Resource Management Plan (RMP) Amendments for geothermal leasing in the western United States (U.S.). The decision is hereby made to amend 114 BLM land use plans covering public lands managed by the BLM under the Federal Land Policy and Management Act of 1976 (FLPMA) in order to allocate about 111 million acres of BLM-administered lands as open to geothermal leasing and to adopt a reasonably foreseeable development scenario, stipulations, best management practices (BMPs), and leasing procedures for geothermal resources within the 11 western states and Alaska. The Assistant Secretary, Land and Minerals Management, in the Department of the Interior signed the ROD on December 17, 2008.

FOR FURTHER INFORMATION CONTACT: Jack G. Peterson, BLM Project Manager at (208) 373-4048 (Jack_G_Peterson@blm.gov), BLM, 1387 S. Vinnell Way, Boise, Idaho 83706 or visit the PEIS Web site at http://www.blm.gov/Geothermal_EIS.

ADDRESSES: A copy of the ROD and Approved RMP Amendments are available for review via the Internet from a link at http://www.blm.gov/Geothermal_EIS, as well as at BLM State Offices and Field Offices. Copies may also be obtained by contacting Jack G. Peterson at the address and phone number listed above.

SUPPLEMENTARY INFORMATION: The ROD and Approved RMP Amendments for geothermal leasing in the western U.S. was developed through preparation of the Final Programmatic Environmental Impact Statement (PEIS) on Geothermal Leasing in the Western United States. The NOA of the Final PEIS was published in the Federal Register on October 24, 2008 (73 FR 63430). The elements of the ROD and Approved RMP Amendments were evaluated through this PEIS, which was prepared in accordance with NEPA and FLPMA. Alternative B was identified as the Proposed Action in the Draft PEIS. As a result of public comment, internal review, and agency coordination, Alternative B was clarified and slightly modified to become the preferred alternative and proposed to amend 122 plans in the Final PEIS. The Approved RMP Amendments are identical to the proposed plan amendments presented in the Final PEIS except that the East San Diego County RMP has been removed from the list of plans for amendment because in October 2008 the BLM issued a ROD revising the RMP to include allocations and management for geothermal resources. In addition, the BLM is deferring the decision to amend the Box Elder RMP, House Range Resource Area RMP, Iso-tract Management Framework Plan (MFP), Park City RMP, Pony Express RMP, Randolph RMP, and Warm Springs Resource Area RMP in accordance with the provisions of the National Defense Authorization Act (NDAA § 2815 [a and d], 113 Stat. 512, 852 [1999]). Based on these changes, the decision is to amend 114 BLM land use plans to adopt the allocations, reasonably foreseeable development scenario, stipulations, BMPs, and leasing procedures provided in Alternative B of the PEIS.

In accordance with the Energy Policy Act of 2005, the ROD/Approved RMP Amendments facilitates geothermal leasing of the Federal mineral estate that has geothermal potential in the 11 western states and Alaska. In the ROD and Approved RMP Amendments, the BLM: (1) Identifies public lands with geothermal potential as being legally and administratively open or closed to leasing, and under what conditions; (2) provides a reasonably foreseeable development scenario; (3) develops a comprehensive list of stipulations, BMPs, and procedures to serve as consistent guidance for future geothermal leasing; and (4) provides information that the Forest Service (FS) can use to facilitate making consent determinations for any lease decisions on National Forest System lands. The Final PEIS also provided analysis on 19 specific pending lease applications located in seven geographic areas. This ROD/Approved RMP Amendments does not issue a decision for these applications. Separate RODs will be issued for the applications as the environmental review process is complete.

Over 530 million acres of the western U.S. and Alaska have been identified as potentially containing geothermal resources suitable for commercial electrical generation and other direct uses, such as heating. Much of the resource base is held in the Federal mineral estate, for which the BLM has the delegated authority for processing and issuing geothermal leases. The BLM is prohibited from issuing leases on statutorily closed lands (see 43 CFR 3201.11), including Wilderness Areas, Wilderness Study Areas, lands contained in a unit of the National Park System, National Recreation Areas, Indian trust or restricted lands, and the Island Park Geothermal Areas (around the border of Yellowstone National Park). Other areas closed to leasing by existing laws, regulations, and Executive Orders include National Monuments and designated wild rivers under the Wild and Scenic Rivers Act.

Under the ROD/Approved RMP Amendments, the BLM also applies discretionary closures to: (1) Areas of Critical Environmental Concern where the BLM determines that geothermal leasing and development would be incompatible with the purposes for which the ACEC was designated, or that have management plans that expressly preclude new leasing; (2) National Conservation Areas, except the California Desert Conservation Area; and (3) other lands in the BLM's National Landscape Conservation System, such as historic and scenic trails.

Approximately 143 million acres of public (BLM) lands and 104 million acres of National Forest System lands have geothermal potential. The ROD/Approved RMP Amendments identifies approximately 111 million acres of public lands as available to potential geothermal leasing subject to existing laws, regulations, formal orders, stipulations attached to the lease form, and terms and conditions of the standard lease form. To protect special resource values, the BLM has developed a comprehensive list of stipulations, conditions of approval, and BMPs.

As noted above, the BLM manages the public lands pursuant to FLPMA. Under FLPMA, in order for geothermal resource leasing and development to take place on the public lands that BLM manages, such activities must be provided for in the land use plan (also termed RMP) for the affected administrative unit. Under the ROD/Approved RMP Amendments, the BLM amends 114 RMPs to adopt the allocations, reasonably foreseeable development scenario, stipulations, BMPs, and procedures analyzed in the PEIS. In most cases, the BLM will be able to issue geothermal leases on the basis of the analysis contained in this document. The FS will use the PEIS to facilitate subsequent consent decisions for leasing on National Forest System lands. The following BLM RMPs and MFPs are amended with this ROD:

Table 1—BLM Land Use Plans Proposed for Amendment Under the PEIS
State | Land use plan(s)
Alaska | Central Yukon RMP
| Kobuk-Seward RMP
| Ring of Fire RMP
Arizona | Arizona Strip RMP
| Kingman RMP
| Lake Havasu RMP
| Lower Gila North MFP
| Lower Gila South RMP
| Phoenix RMP
| Safford RMP
| Yuma RMP
California | Alturas RMP
| Arcata RMP
| Bishop RMP
| Caliente RMP
| Cedar Creek/Tule Mountain Integrated RMP
| Eagle Lake RMP
| Headwaters RMP
| Hollister RMP
| Redding RMP
| S. Diablo Mountain Range and Central Coast RMP
| South Coast RMP
| Surprise RMP
| West Mojave RMP
Colorado | Glenwood Springs RMP
| Grand Junction RMP
| Gunnison RMP
| Kremmling RMP
| Little Snake RMP
| Northeast RMP
| Royal Gorge RMP
| San Juan/San Miguel RMP
| Uncompahgre Basin RMP
| White River RMP
Idaho | Bennett Hills/Timmerman Hills MFP
| Big Desert MFP
| Big Lost MFP
| Bruneau MFP
| Cascade RMP
| Cassia RMP
| Challis RMP
| Chief Joseph MFP
| Jarbidge RMP
| Kuna MFP
| Lemhi RMP
| Little Lost-Birch MFP
| Magic MFP
| Malad MFP
| Medicine Lodge RMP
| Monument RMP
| Owyhee RMP
| Pocatello RMP
| Sun Valley MFP
| Twin Falls MFP
Montana | Big Dry RMP
| Billings Resource Area RMP
| Dillon RMP
| Garnet Resource Area RMP
| Judith Valley Phillips RMP
| North Headwaters RMP
| Powder River Resource Area RMP
| West HiLine RMP
Nevada | Carson City Consolidated RMP
| Elko RMP
| Las Vegas RMP
| Paradise-Denio MFP
| Shoshone-Eureka RMP
| Sonoma-Gerlach MFP
| Tonopah RMP
| Wells RMP
New Mexico | Carlsbad RMP
| Farmington RMP
| MacGregor Range RMP
| Mimbres RMP
| Rio Puerco RMP
| Roswell RMP
| Socorro RMP
| Taos RMP
| White Sands RMP
Oregon | Brothers/LaPine RMP
| Eugene District RMP
| John Day River RMP
| John Day RMP
| Lower Deschutes RMP
| Medford RMP
| Roseburg RMP
| Salem RMP
| Three Rivers RMP
| Two Rivers RMP
Utah | Book Cliffs MFP
| Cedar Beaver Garfield Antimony RMP
| Diamond Mountain RMP
| Henry Mountain MFP
| Mountain Valley MFP
| Paria MFP
| Parker Mountain MFP
| Pinyon MFP
| St. George (formerly Dixie) RMP
| Vermilion MFP
| Zion MFP
Washington | Spokane RMP
Wyoming | Big Horn Basin RMP
| Buffalo RMP
| Cody RMP
| Grass Creek RMP
| Great Divide RMP
| Green River RMP
| Kemmerer RMP
| Lander RMP
| Newcastle RMP
| Pinedale RMP
| Platte River RMP
| Snake River RMP
| Waskakie RMP

Public involvement in preparation of the Geothermal Leasing PEIS was extensive, as documented in the PEIS and the ROD. Results of the 60-day Governors' Consistency Review of the PEIS, as required by BLM planning regulations, were favorable in that none of the Governors objected to the proposed plan amendments.

Michael D. Nedd,
Assistant Director, Minerals and Realty Management, Bureau of Land Management.

[FR Doc. E8-30883 Filed 12-29-08; 8:45 am]

BILLING CODE 4310-84-P